DEPARTMENT OF HOMELAND SECURITY

U.S. Customs and Border Protection

DEPARTMENT OF THE TREASURY

19 CFR Parts 4, 10, 18, 19, 113, 122, 123, 141, 142, 143, 144, 146, 151, and 181

[USCBP-2012-0002]

RIN 1515-AD81

Changes to the In-Bond Process; Correction

AGENCY: U.S. Customs and Border Protection, DHS; Treasury.

ACTION: Notice of proposed rulemaking; correction.

SUMMARY: U.S. Customs and Border Protection (CBP) published a notice of proposed rulemaking in the Federal Register on February 22, 2012, proposing various changes to the in-bond regulations to enhance CBP's ability to regulate and track in-bond merchandise and to ensure that the in-bond merchandise is properly entered and duties are paid or that the in-bond merchandise is exported. In that document, CBP published a summary of its analysis under the Regulatory Flexibility Act and stated that the complete Initial Regulatory Flexibility Analysis (IRFA) was posted on the regulations.gov Web site. As CBP inadvertently failed to post the IRFA on the docket when the NPRM was published, CBP is notifying the public that the IRFA has now been posted and is seeking comments on the conclusion in the NPRM and the IRFA that the rule may have a significant economic impact on a substantial number of small entities.

DATES: Comments must be received on or before August 27, 2012.

FOR FURTHER INFORMATION CONTACT: Seth Renkema, Office of International Trade, SETH.D.RENKEMA@CBP.DHS.GOV.

ADDRESSES: You may submit comments, identified by docket number, by one of the following methods:

• Federal eRulemaking Portal: http://www.regulations.gov. Follow the instructions for submitting comments via docket number USCBP 2012-0002.

• Mail: Border Security Regulations Branch, Office of Regulations and Rulings, U.S. Customs and Border Protection, Mint Annex, 799 9th Street NW., Washington, DC 20229.

Instructions: All submissions received must include the agency name and docket number for this rulemaking. All comments received will be posted without change to http://www.regulations.gov, including any personal information provided. For detailed instructions on submitting comments and additional information on the rulemaking process, see the “Public Participation” heading of the SUPPLEMENTARY INFORMATION section of this document.

Docket: For access to the docket to read background documents or comments received, go to http://www.regulations.gov. Submitted comments may also be inspected during regular business days between the hours of 9 a.m. and 4:30 p.m. at the Office of International Trade, Regulations and Rulings, U.S. Customs and Border Protection, 799 9th Street NW., 5th Floor, Washington, DC. Arrangements to inspect submitted comments should be made in advance by calling Mr. Joseph Clark at (202) 325-0118.

SUPPLEMENTARY INFORMATION:

Public Participation

Interested persons are invited to participate by submitting written data, views, or arguments on CBP's conclusion that the rule may have a significant economic impact on a substantial number of small entities.

Background

On February 22, 2012, CBP published a notice of proposed rulemaking (NPRM) titled “Changes to the In-Bond Process” in the Federal Register (77 FR 10622) and requested comments from the public. The NPRM proposes various changes to the in-bond regulations to enhance CBP's ability to regulate and track in-bond merchandise and to ensure that the in-bond merchandise is properly entered and duties are paid or that the in-bond merchandise is exported. The comment period closed on April 23, 2012.

As part of the development of the NPRM and pursuant to the Regulatory Flexibility Act of 1980, as amended by the Small Business Regulatory Enforcement Fairness Act of 1996 (RFA/SBREFA) and E.O. 13272, titled “Proper Consideration of Small Entities in Agency Rulemaking,” CBP prepared a regulatory flexibility analysis. Because the initial screening analysis indicated that the rule might significantly affect a substantial number of small entities, CBP was required to conduct an Initial Regulatory Flexibility Analysis (IRFA) to further assess these impacts.

In the NPRM and the IRFA, CBP concluded that the rule may significantly affect a substantial number of small entities. The NPRM summarizes the IRFA, seeks comments on its conclusion and states that the complete IRFA can be found in the docket for the rulemaking. However, CBP inadvertently failed to timely post the IRFA to the docket. The complete IRFA has now been posted to the docket at http://www.regulations.gov under Docket USCBP-2012-0002 and CBP is again inviting interested parties to comment on CBP's conclusion that the rule may have a significant economic impact on a substantial number of small entities. All comments must be received within 30 days of publication of this notice. CBP will not accept comments on any other topic.

Dated: July 20, 2012.
Harold Singer,
Director, Regulations and Disclosure Law Division.

[FR Doc. 2012-18187 Filed 7-25-12; 8:45 am]

BILLING CODE 9111-14-P